DEPARTMENT OF AGRICULTURE

Submission for OMB Review; Comment Request

June 25, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 31, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Hass Avocado from Michoacán Mexico.

OMB Control Number: 0579-0129.

Summary of Collection: Under the Plant Protection Act (7 U.S.C. 7701—et seq.), the Secretary of Agriculture is authorized to prohibit or restrict the importation, entry, or movement of plants and plant pests, to prevent the introduction of plant pests into the United States or their dissemination within the United States. The Animal and Plant Health Inspection Service (APHIS) regulations allow fresh Hass Avocados grown in approved orchards in Michoacan, Mexico to be imported into the United States under certain conditions.

Need and Use of the Information: APHIS will collect information using form PPQ 587 “Application for Permit to Import Plants or Plant Products,” to ensure that fresh Hass Avocados from Mexico do not harbor insect pests (including Avocado stem weevils, seed weevils, and seed moths). The information collected will ensure that fresh Hass Avocados from Mexico do not harbor exotic insect pests that, if introduced into the United States, could inflict severe damage upon U.S. agriculture.

Description of Respondents: Business or other for profit; Federal Government.

Number of Respondents: 2,205.

Frequency of Responses: Recordkeeping; Reporting: On occasion.

Total Burden Hours: 105,558.

Animal and Plant Health Inspection Service

Title: South American Cactus Moth; Quarantine and Regulations.

OMB Control Number: 0579-0337.

Summary of Collection: Under the Plant Protection Act (7 U.S.C. 7701—et seq.), the Secretary of Agriculture is authorized to prohibit or restrict the importation, entry, or movement of plants and plant pests to prevent the introduction of plant pests into the United States or their dissemination within the United States. The Animal and Plant Health Inspection Service (APHIS) regulations subpart, “Subpart-South American Cactus Moth” (7 CFR part 301.55 through 301.55-9), restrict the interstate movement of regulated articles from quarantined areas into or through non-quarantined areas within the United States.

Need and Use of the Information: APHIS will collect information using Limited Permit (PPQ Form 530), Certificate (PPQ Form 540) and Compliance Agreement (PPQ Form 519). The limited permits are used to authorize movement of regulated articles that are not certifiable to specified destination for processing, treatment, or utilization. The certificate is used for domestic movement of treated articles relating to quarantines. Certificates are issued for regulated articles when an inspector or other person authorized to issue certificates finds that the articles have met the conditions of the regulations and may be safely moved interstate without further restrictions. The Compliance agreements are provided for the convenience of persons who are involved in the growing, handling, or moving of regulated articles from quarantined areas. Without this information, APHIS could not provide an effective domestic quarantine program to prevent the artificial spread of the South American cactus moth within the United States.

Description of Respondents: Business or other for-profit; Federal Government.

Number of Respondents: 7.

Frequency of Responses: Reporting: On occasion.

Total Burden Hours: 11.

Ruth Brown,
Departmental Information Collection Clearance Officer.

[FR Doc. 2014-15340 Filed 6-30-14; 8:45 am]

BILLING CODE 3410-34-P